DEPARTMENT OF TRANSPORTATION

Federal Aviation Administration

[Summary Notice No. PE-2001-68]

Petitions for Exemption; Summary of Dispositions of Petitions Issued

AGENCY: Federal Aviation Administration (FAA), DOT.

ACTION: Notice of dispositions of prior petitions.

SUMMARY: Pursuant to FAA's rulemaking provisions governing the application processing, and disposition of petitions for exemption part 11 of Title 14, Code of Federal Regulations (14 CFR), this notice contains a summary of dispositions of certain petitions previously received. The purposed of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington DC on August 13, 2001.
Donald P. Byrne,
Assistant Chief Counsel for Regulations.

Disposition of Petitions

Docket No.: FAA-2001-9285.

Petitioner: Mesaba Aviation, Inc.

Section of 14 CFR Affected: 14 CFR § 121.344(d).

Description of Relief Sought/Disposition: To permit Mesaba to operate 18 RJ85 airplanes without those airplanes having the capability to record data in accordance with the following paragraphs of § 121.344(a): (12) Pitch control input; (13) Lateral control input; (14) Rudder pedal input.

Grant, 08/17/2001, Exemption No. 7600

Docket No.: FAA-2001-9875.

Petitioner: Continental Express Airlines.

Section of 14 CFR Affected: 14 CFR § 121.344 (c) and (d).

Description of Relief Sought/Disposition: To permit Continental Express to operate certain Avions de Transport Regional ATR 42 airplanes without those airplanes having the capability to record data in accordance with the following paragraphs of § 121.344(a), as applicable: (12) Pitch control input; (3) Lateral control input; (14) Rudder pedal input; (15) Primary pitch control surface position; (16) Primary lateral control surface position; (30) Master warning; (31) Air/ground sensor (primary airplane system reference nose or main gear).

Grant, 08/17/2001, Exemption No. 7602

Docket No.: FAA-2001-10007.

Petitioner: Era Aviation, Inc.

Section of 14 CFR Affected: 14 CFR § 135.152(a).

Description of Relief Sought/Disposition:

Description of Relief Sought/Disposition: To permit Era to operate two S-76As (registration Nos. N575EH and N579EH; serial Nos. 760366 and 760274, respectively) under part 135 without an approved digital flight data recorder installed.

Grant, 08/17/2001, Exemption No. 7605

Docket No.: FAA-2001-8601 (previously Docket No. 29142).

Petitioner: Geo-Seis Helicopters, Inc.

Section of 14 CFR Affected: 14 CFR 135.152(a).

Description of Relief Sought/Disposition: To permit Geo-Seis to add 5 Burocopter Puma 330J helicopters (Registration Nos. N330J, N330JA, N330JF, N405R, and N505R; and Serial Nos. 1647, 1140, 1514, 1475, and 1478, respectively) to the list of aircraft covered by Exemption No. 6785.

Grant, 08/17/2001, Exemption No. 6785B

Docket No.: FAA-2001-10437.

Petitioner: Mesa Airlines, Inc.

Section of 14 CFR Affected: 14 CFR 121.344(d).

Description of Relief Sought/Disposition: To permit Mesa to operate two CL600-2B19 airplanes (Registration Nos. N27173 and N37228) under part 121 without those aircraft being equipped with an approved digital flight data recorder capable of recording the following parameters: Pitch control Position(s); Lateral Control Position(s); and Yaw Control Position(s).

Grant, 08/17/2001, Exemption No. 7604

Docket No.: FAA-2001-9799.

Petitioner: Atlantic Coast Airlines.

Section of 14 CFR Affected: 14 CFR 121.344(d).

Description of Relief Sought/Disposition: To permit ACA to operate one CL-600 airplane without that airplane having the capability to record data in accordance with the requirements of § 121.344(a).

Grant, 08/17/2001, Exemption No. 7598

Docket No.: FAA-2001-9441 (previously Docket No. 28962).

Petitioner: Bombardier Services Corporation, West Virginia Air Center.

Section of 14 CFR Affected: 14 CFR 145.45(f).

Description of Relief Sought/Disposition: To permit Bombardier to assign copies of its Inspection Procedures Manual (IPM) to key individuals within departments and to strategically place an adequate number of IPMs for access by all employees, rather than giving a copy of the IPM to all supervisory and inspection personnel.

Grant, 08/08/2001, Exemption No. 6677B

[FR Doc. 01-22414 Filed 9-5-01; 8:45 am]

BILLING CODE 4910-13-M